SECURITIES AND EXCHANGE COMMISSION

[File No. 500-1]

In the Matter of the Enlightened Gourmet, Inc., Eternal Image, Inc., NMT Medical, Inc., and Wits Basin Precious Minerals, Inc.; Order of Suspension of Trading

December 18, 2013.

It appears to the Securities and Exchange Commission that there is a lack of current and accurate information concerning the securities of The Enlightened Gourmet, Inc. because it has not filed any periodic reports since the period ended September 30, 2010.

It appears to the Securities and Exchange Commission that there is a lack of current and accurate information concerning the securities of Eternal Image, Inc. because it has not filed any periodic reports since the period ended September 30, 2010.

It appears to the Securities and Exchange Commission that there is a lack of current and accurate information concerning the securities of NMT Medical, Inc. because it has not filed any periodic reports since the period ended September 30, 2010.

It appears to the Securities and Exchange Commission that there is a lack of current and accurate information concerning the securities of Wits Basin Precious Minerals, Inc. because it has not filed any periodic reports since the period ended September 30, 2010.

The Commission is of the opinion that the public interest and the protection of investors require a suspension of trading in the securities of the above-listed companies.

Therefore, it is ordered, pursuant to Section 12(k) of the Securities Exchange Act of 1934, that trading in the securities of the above-listed companies is suspended for the period from 9:30 a.m. EST on December 18, 2013, through 11:59 p.m. EST on January 2, 2014.

By the Commission.
Elizabeth M. Murphy,
Secretary.

[FR Doc. 2013-30474 Filed 12-18-13; 11:15 am]

BILLING CODE 8011-01-P